DEPARTMENT OF LABOR

Office of the Secretary

Submission for OMB Review; Comment Request

July 26, 2002.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on 202-693-4129 or e-mail: King-Darrin@dol.gov.

Comments should be sent to Office of Information and Regulatory Affairs, Attn: OMB Desk Officer for OSHA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Occupational Safety and Health Administration (OSHA).

Type of Review: Extension of a currently approved collection.

Title: Servicing Multi-Piece and Single-Piece Rim Wheels—29 CFR 1910.177(d)(3)(iv).

OMB Number: 1218-0219.

Affected Public: Business or other for-profit; Not-for-profit institutions; State, Local, or Tribal Government; and Federal Government.

Frequency: On occasion.

Type of Response: Recordkeeping and Third-party disclosure.

Number of Respondents: 8.

Number of Responses: 8.

Average Time per Response: 5 minutes.

Annual Burden Hours: 1.

Total Annualized Capital/Startup Costs: $0.

Total Annual Costs (operating/maintaining systems or purchasing services): $0.

Description: 29 CFR 1910/177(d)(3)(iv) specifies one paperwork requirement. The following section describes who uses the information collected under the requirement, as well as how they use it. The purpose of the requirement is to reduce employees' risk of death or serious injury by ensuring that restraining devices used by them during the servicing of multi-piece and single piece rim wheels are in safe operating condition. Based on previous ICR approvals, OSHA has determined that the training requirements in paragraphs (c), (f), and (g) of the Standard are not collection-of-information requirements under the Paperwork Reduction Act.

Certification of Repair (paragraph (d)(3)(iv)) requires that when restraining devices and barriers are removed from service because they have been found to be defective, they shall not be returned to service until they are repaired and reinspected. If the repair is of a structural nature, the manufacturer or a Registered Professional Engineer must certify that the strength requirements specified in (d)(3)(i) of the standard have been met.

The certification records are used to assure that equipment has been properly repaired. The certification record also provide the most efficient means for the compliance officers to determine that an employer is complying with the Standard.

Agency: Occupational safety and Health Administration (OSHA).

Type of Review: Extension of a currently approved collection.

Title: Shipyard Employment Standards—29 CFR 1915.113(b)(1) and 1915.172(d).

OMB Number: 1218-0220.

Affected Public: Business or other for-profit; Not-for-profit institutions; State, Local or Tribal Government; and Federal Government.

Frequency: Quarterly and Annually.

Type of Response: Recordkeeping and Third-party disclosure.

Number of Respondents: 800.

Number of Responses: 16,320.

Average Time per Response: 30 minutes to examine and test hooks; 15 minutes to quarterly examine unfired pressure vessels; and 20 minutes to conduct a yearly hydrostatic pressure test of vessels and to generate, maintain, and disclose a certificate or a record of test results.

Annual Burden Hours: 4,416.

Total Annualized Capital/Startup Costs: $0.

Total Annual Costs (operating/maintaining systems or purchasing services): $0.

Description: The Standard specifies two paperwork requirements. The following sections describe who uses the information collected under each requirement, as well as how they use it. The purpose of these requirements is to reduce employees' risk of death or serious injury by ensuring that equipment has been tested and is in safe operating condition.

Test Records for Hooks (paragraphs 1915.113(b)(1)). This paragraph requires that the manufacturer's recommendations be followed in determining the safe working loads of the various sizes and types of hooks. If the manufacturer's recommendations are not available, the hook must be tested to twice the intended safe working load before it is initially put into use. The employer must maintain and keep readily available a certification record which includes the date of such test, the signature of the person who performed the test, and the identifier for the hook which was tested.

Examination and Test Records for Unfired Pressure Vessels (paragraph 1915.172(d)). This paragraph requires that portable, unfired pressure vessels be examined quarterly by a competent person and subjected to a yearly hyddrostatic pressure test. A certification record of such examinations and tests shall be maintained.

The records are used to assure that equipment has been properly tested. The records also provide the most efficient means for the compliance officers to determine that an employer is complying with the Standards.

Agency: Occupational Safety and Health Administration (OSHA).

Type of Review: Extension of a currently approved collection.

Title: Telecommunications, Training Certification—29 CFR 1910.168(c).

OMB Number: 1218-0225.

Affected Public: Business or other for-profit; Not-for-profit institutions; State, Local, or Tribal Government; and Federal Government.

Frequency: On occasion.

Type of Response: Recordkeeping and Third-party disclosure.

Number of Respondents: 306.

Number of Responses: 107,138.

Average Time per Response: 2 minutes for existing employees and 4 minutes for new employees.

Annual Burden Hours: 7,487.

Total Annualized Capital/Startup Costs: $0.

Total Annual Costs (operating/maintaining systems or purchasing services): $0.

Description: The Standard specifies one information-collection requirement. The following section describes who uses the information collected under the requirement, as well as how they use it. The purpose of this requirement is to ensure that employees have been trained as required by the standard to prevent risk of death or serious injury.

Under the paperwork requirement specified by paragraph (c) of the Standard, employers must certify that his or her employees have been trained as specified by the performance-language training provision of the standard. Specifically, employers must prepare a certification record which includes the identity of the person trained, the signature of the employer or the person who conducted the training, and the date the training was completed. The certification record shall be prepared at the completion of training and shall be maintained on file for the duration of the employee's employment. The information collected would be used by employers as well as compliance officers to determine that employees have been trained according to the requirements set forth in 29 CFR 1910.268(c).

Ira L. Mills,
Departmental Clearance Officer,

[FR Doc. 02-19523 Filed 8-1-02; 8:45 am]

BILLING CODE 4510-26-M